DEPARTMENT OF TRANSPORTATION

Federal Aviation Administration

[Summary Notice No. 2016-98]

Petition for Exemption; Summary of Petition Received; Pentastar Aviation Charter, Inc.

AGENCY: Federal Aviation Administration (FAA), DOT.

ACTION: Notice.

SUMMARY: This notice contains a summary of a petition seeking relief from specified requirements of Title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before November 21, 2016.

ADDRESSES: Send comments identified by docket number FAA-2016-5027 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Dale Williams (202) 267-4179, Office of Rulemaking, Federal Aviation Administration, 800 Independence Avenue SW., Washington, DC 20591.

This notice is published pursuant to 14 CFR 11.85.

Issued in Washington, DC, on October 25, 2016.
Dale A. Bouffiou,
Deputy Director, Office of Rulemaking.

Petition for Exemption

Docket No.: FAA-2016-5027.

Petitioner: Pentastar Aviation Charter, Inc.

Section(s) of 14 CFR Affected: 135.25 (b)(c).

Description of Relief Sought: Pentastar Aviation Charter, Inc. (Pentastar) seeks exemption from § 135.25 (b), which requires a part 135 certificate holder to have the exclusive use of at least one aircraft that meets the requirements for at least one kind of operation authorized in its operations specifications. In addition, Pentastar seeks exemption from § 135.25 (c), which specifies that, for the purposes of § 135.25 (b), a person has exclusive use of an aircraft if that person has the sole possession, control, and use of it for flight, as owner, or has a written agreement (including arrangements for performing required maintenance), in effect when the aircraft is operated, giving the person that possession, control, and use for at least 6 consecutive months. In addition, the FAA notes that an exemption from § 135.419 may be relevant to the disposition of this petition. Section 135.419 states that the FAA Administrator may require or allow an approved aircraft inspection program for any make and model aircraft of which the certificate holder has exclusive use of at least one aircraft (as defined in § 135.25(b)).

Pentastar operates under part 135 as an eligible on demand air carrier under Certificate No. UG8A235J, which was issued initially in 1999. Pentastar currently operates 8 turbo jet aircraft and one Cessna-172 aircraft, all of which are leased aircraft. Pentastar retains responsibility for all maintenance of the aircraft on its part 135 certificate through its part 145 repair station (No. BTVR626C). None of these aircraft are operated under part 91K, however, all aircraft are operated under part 91 by owners when not in use by Pentastar. Pentastar is currently in compliance with §§ 135.25 (b) and (c) by leasing a C-172 aircraft. Pentastar maintains this aircraft on its part 135 operations specifications although it has never utilized this aircraft for on demand operations. The petitioner contends that a grant of exemption would provide an equivalent level of safety because all the aircraft utilized in actual on demand operations under its part 135 certificate would remain the same.

[FR Doc. 2016-26238 Filed 10-28-16; 8:45 am]

BILLING CODE 4910-13-P